DEPARTMENT OF HEALTH AND HUMAN SERVICES

Agency for Toxic Substances and Disease Registry

Community and Tribal Subcommittee of the Board of Scientific Counselors, Agency for Toxic Substances and Disease Registry: Meeting

In accordance with section 10(a)(2) of the Federal Advisory Committee Act (Pub. L. 92-463), the Agency for Toxic Substances and Disease Registry (ATSDR) announces the following subcommittee and committee meetings.

Name: Community and Tribal Subcommittee.

Times and Dates: 9 a.m.-4:30 p.m., August 29, 2002.

8:30 a.m.-2 p.m., August 30, 2002.

Place: Radisson Inn, 2061 N. Druid Hills Road, Atlanta, Georgia 30329.

Status: Open to the public, limited by the available space. The meeting room accommodates approximately 50 people.

Purpose: This subcommittee brings to the Board advice, citizen input, and recommendations on community and tribal programs, practices, and policies of the Agency.

Matters To Be Discussed: Agenda items include an update on Thermal Treatment Technologies; presentation on National Environmental Justice Advisory Council; presentation by the ATSDR's Ombudsman; overview of the Federal Advisory Committee Act; update on the CTS Review Process; discussion on Recommendations from Special Consultants' Caucus; breakout sessions to discuss Cultural Sensitivity Activities, education training and development of Toolbox; evaluation of Public Health Assessments for compliance to Guidelines; review of Action Items; and a report on the nomination of four new Special Consultants.

Written comments are welcomed and should be received by the contact person listed below prior to the opening of the meeting.

Agenda items are subject to change as priorities dictate.

Contact Person for More Information: Ruby L. Palmer, Designated Federal Official, CTS/ATSDR contact, ATSDR, M/S E-54, 1600 Clifton Road, NE., Atlanta, Georgia 30333, telephone 404/498-1749.

The Director, Management Analysis and Services Office, has been delegated the authority to sign Federal Register notices pertaining to announcements of meetings and other committee management activities for both the Centers for Disease Control and Prevention and the Agency for Toxic Substances and Disease Registry.

Dated: July 29, 2002.
John C. Burckhardt,
Acting Director, Management Analysis and Services Office, Centers for Disease Control and Prevention.

[FR Doc. 02-19623 Filed 8-5-02; 8:45 am]

BILLING CODE 4163-70-P